DEPARTMENT OF TRANSPORTATION

Federal Aviation Administration

Notice of Opportunity for Public Comment on Surplus Property Release at Gadsden Municipal Airport, Gadsden, AL

AGENCY: Federal Aviation Administration (FAA), DOT.

ACTION: Notice of intent to rule on land release request.

SUMMARY: Under the provisions of title 49, U.S.C. 47153(c), notice is being given that the FAA is considering a request from the Gadsden Airport Authority to waive the requirement that a 10.26-acre parcel of surplus property, located at the Gadsden Municipal Airport, be used for aeronautical purposes.

DATES: Comments must be received on or before June 15, 2005.

ADDRESSES: Comments on this notice may be mailed or delivered in triplicate to the FAA at the following address: Jackson Airports District Office, 100 West Cross Street, Suite B, Jackson, MS 39208-2307.

In addition, one copy of any comments submitted to the FAA must be mailed or delivered to the Gadsden Airport Authority, at the following address: Post Office Box 961, Gadsden, Alabama 35902-0961.

FOR FURTHER INFORMATION CONTACT: Mr. Keafur Grimes, Program Manager, Jackson Airports District Office, 100 West Cross Street, Suite B, Jackson, MS 39208-2307, (601) 664-9886. The land release request may be reviewed in person at this same location.

SUPPLEMENTARY INFORMATION: The FAA is reviewing a request by the Gadsden Airport Authority to release 10.26 acres of surplus property at the Gadsden Municipal Airport. The property will be purchased by Cintas, Inc., which is a manufacturing company. The property is currently forest land. The net proceeds from the sale of this property will be used for airport purposes.

Any person may inspect the request in person at the FAA office listed above under for further information contact.

In addition, any person upon request, may inspect the notice, and other documents germane to the notice in person at the City of Gadsden, Engineering Department, Room 301.

Issued in Jackson, Mississippi on May 5, 2005.
Rans D. Black,
Manager, Jackson Airports District Office, Southern Region.

[FR Doc. 05-9626 Filed 5-15-05; 8:45 am]

BILLING CODE 4910-13-M